DEPARTMENT OF ENERGY

Federal Energy Regulatory Commission

[Docket No. EC02-31-000, et al.]

Pacific Gas and Electric Company, et al.; Electric Rate and Corporate Regulation Filings

December 12, 2001.

Take notice that the following filings have been made with the Commission:

1. Pacific Gas and Electric Company, PG&E Corporation on Behalf of Its Subsidiaries Electric Generation LLC, ETrans LLC and GTrans LLC

[Docket Nos. EC02-31-000, EL02-36-000, and CP02-38-000]

Take notice that on November 30, 2001, Pacific Gas and Electric Company (PG&E) and PG&E Corporation (Parent) on behalf of its subsidiaries, Electric Generation LLC, ETrans LLC and GTrans LLC (collectively, the Applicants) filed with the Federal Energy Regulatory Commission an application pursuant to section 203 of the Federal Power Act (FPA) and related declaratory orders under sections 201 and 305 of the FPA and section 12 of the Natural Gas Act for authorization of a disposition of jurisdictional facilities. PG&E is a debtor pursuant to Title 11 of the U.S. Code. In accordance with the plan of reorganization pending before the bankruptcy court, Applicants request approval for various transactions required for a reorganization of PG&E that will result in the corporate unbundling of certain of PG&E's operations and spin-off of PG&E (as a retail gas and electric distribution company) from Parent. The application includes a request for privileged treatment of confidential information. A copy of the related filings will be posted on PG&E's Web site at http://apps.pge.com/regulation.

Comment date: January 30, 2002, in accordance with Standard Paragraph E at the end of this notice.

2. Mirant Americas Energy Marketing, LP

[Docket No. ER97-4166-009]

Take notice that on December 5, 2001, Mirant Americas Energy Marketing, LP (MAEM) tendered for filing with the Federal Energy Regulatory Commission (Commission) a revised triennial market power analysis in compliance with the November 20, 2001, Commission Order. AEP Power Marketing, Inc. 97 FERC 61,219 (2001).

Comment date: December 26, 2001, in accordance with Standard Paragraph E at the end of this notice.

3. Midwest Independent Transmission System Operator, Inc.

[Docket No. ER01-3142-004]

Take notice that on December 6, 2001, the Midwest Independent Transmission System Operator, Inc. (the Midwest ISO) tendered for filing with the Federal Energy Regulatory Commission (Commission) revisions to its Open Access Transmission tariff (OATT), FERC Electric Tariff, First Revised Volume No. 1. The proposed revisions to the Midwest ISO OATT are intended to correct inconsistencies and to clarify certain provisions.

The Midwest ISO seeks an effective date of the later of December 19, 2001 or the date the Midwest ISO begins providing service under its OATT.

The Midwest ISO also seeks waiver of the Commission's regulations 18 CFR 385.2010 (2001) with respect to service on all parties on the official service list in this proceeding. Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment date: December 27, 2001, in accordance with Standard Paragraph E at the end of this notice.

4. NorthWestern Energy Marketing, LLC

[Docket No. ER02-41-001]

On December 7, 2001, NorthWestern Energy Marketing, LLC, a limited liability corporation organized under the laws of the State of Delaware, filed its response to the December 3, 2001 request of Michael A. Coleman, Director of the Division of Tariffs and Rates-West at the Federal Energy Regulatory Commission (Commission) for the following in the above-referenced proceeding: (1) Confirmation and clarification that NEM requests authorization to make sales of ancillary services utilizing an Internet-based OASIS like site and (2) inclusion in NEM's proposed FERC Electric Rate Schedule No. 1 a provision for refunds in certain circumstances.

Comment date: December 28, 2001, in accordance with Standard Paragraph E at the end of this notice.

5. Southwestern Public Service Company

[Docket No. ER02-213-001]

Take notice that on December 7, 2001, Southwestern Public Service Company (Southwestern) tendered for filing a First Revised Rate Schedule for Central Valley Electric Cooperative, Inc. (Central Valley) to comply with Order 614 and amend the Exhibit A delivery point listing for service to Central Valley to add a new delivery point.

Comment date: December 28, 2001, in accordance with Standard Paragraph E at the end of this notice.

6. California Independent System Operator Corporation

[Docket No. ER02-250-001]

Take notice that on December 7, 2001, the California Independent System Operator Corporation (ISO) tendered for filing an errata to its 2002 Grid Management Charge filed on November 2, 2001. The purpose of the errata is to allow for the Quarterly Adjustment to the ISO's 2002 revenue requirement to reflect anticipated cost savings, or to reflect unanticipated collections of fines and penalties. This provision was intended to be submitted with the November 2, 2001 filing but was omitted due to an oversight. The ISO is requesting that the errata be treated the same as if it was submitted on November 2, 2001 and be made effective January 1, 2002.

The ISO states that this filing has been served on the Public Utilities Commission of California, the California Energy Commission, the California Electricity Oversight Board, and upon all parties with effective Scheduling Coordinator Service Agreements under the ISO Tariff.

Comment date: December 28, 2001, in accordance with Standard Paragraph E at the end of this notice.

7. Southwest Power Pool, Inc.

[Docket No. ER02-472-000]

Take notice that on December 4, 2001, Southwest Power Pool, Inc. (SPP) submitted for filing two executed service agreements for Firm Point-to-Point Transmission Service with Southwestern Power Administration (Transmission Customer).

SPP requests an effective date of June 1, 2002 for these service agreements. A copy of this filing was served on the Transmission Customer.

Comment date: December 27, 2001, in accordance with Standard Paragraph E at the end of this notice.

8. PPL Montana, LLC

[Docket No. ER02-474-000]

Take notice that on December 4, 2001, PPL Montana, LLC (PPL Montana) filed with the Commission an executed service agreement under PPL Montana's FERC Electric Tariff, Original Volume No. 3 between PPL Montana and Enron Power Marketing, Inc. (EPMI).

PPL Montana requests that the Commission grant a waiver so as to permit the service agreement to become effective on September 1, 2001. PPL Montana states that it has served a copy of this filing on EPMI.

Comment date: December 27, 2001, in accordance with Standard Paragraph E at the end of this notice.

9. Holt Company of Ohio

[Docket No. ER02-475-000]

Take notice that on December 4, 2001, the Holt Company of Ohio (Holt) submitted for filing with the Federal Energy Regulatory Commission (Commission) an Umbrella Service Agreement for Short-Term Sales between Holt and American Municipal Power-Ohio (AMP-Ohio). The Umbrella Service Agreement between Holt and AMP-Ohio sets out the general commercial terms and conditions pursuant to which Holt makes sales of electric energy and capacity to AMP-Ohio.

Comment date: December 27, 2001, in accordance with Standard Paragraph E at the end of this notice.

10. Troup Electric Membership Corporation

[Docket No. ER02-476-000]

Take notice that on December 4, 2001, Troup Electric Membership Corporation (Troup), a non-profit electric distribution cooperative filed a petition for authority to sell power at market-based rates, acceptance of its proposed rate schedule and certain waivers.

Troup requests an effective date for its proposed rate schedule that would be 60 days from the date of the filing of its petition or the date of the order accepting Troup's rate schedule for filing.

Comment date: December 27, 2001, in accordance with Standard Paragraph E at the end of this notice.

11. American Transmission Company LLC

[Docket No. ER02-477-000]

Take notice that on December 5, 2001, American Transmission Company LLC (ATCLLC) tendered for filing an executed Distribution-Transmission Interconnection Agreement between ATCLLC and City of Kaukauna.

ATCLLC requests an effective date of June 25, 2001.

Comment date: December 26, 2001, in accordance with Standard Paragraph E at the end of this notice.

12. Southern Company Services, Inc.

[Docket No. ER02-478-000]

Take notice that on December 5, 2001, Southern Company Services, Inc. (SCS), acting on behalf of Alabama Power Company, Georgia Power Company, Gulf Power Company, Mississippi Power Company, and Savannah Electric and Power Company (collectively Southern Companies), filed a Notice of Cancellation of three (3) transmission service agreements under the Open Access Transmission Tariff of Southern Companies (Tariff) (FERC Electric Tariff, Fourth Revised Volume No. 5). These three cancellations include: (1) A non-firm point-to-point transmission service agreement under the Tariff between SCS, as agent for Southern Companies, and Avista Energy, Inc.; (2) a firm point-to-point service agreement under the Tariff between SCS, as agent for Southern Companies, and Avista Energy, Inc.; and (3) a conditional and experimental firm point-to-point transmission service agreement under the Tariff between SCS, as agent for Southern Companies, and Coral Power, LLC.

Comment date: December 26, 2001, in accordance with Standard Paragraph E at the end of this notice.

13. Pacific Gas and Electric Company

[Docket No. ER02-479-000]

Take notice that on December 5, 2001, Pacific Gas and Electric Company (PG&E) tendered for filing a new Grid Management Charge Pass-Through Tariff (GMC P-TT) This filing seeks to recover the costs proposed in the California Independent System Operator Corporation's (ISO) GMC filing in Docket No. ER02-250-000 on November 1, 2001.

PG&E requests an effective date of January 1, 2002 or the date the Commission makes effective the ISO's filing in Docket No. ER02-250-000.

Copies of this filing have been served upon the California Public Utilities Commission, all affected customers and the ISO.

Comment date: December 26, 2001, in accordance with Standard Paragraph E at the end of this notice.

14. PPL EnergyPlus, LLC

[Docket No. ER02-480-000]

Take notice that on December 5, 2001, PPL EnergyPlus, LLC (PPL EnergyPlus) filed with the Federal Energy Regulatory Commission (Commission) revisions to its Rate Schedule FERC No. 9, a long-term power sales agreement between PPL EnergyPlus and PPL Electric Utilities Corporation (PPL Electric).

PPL EnergyPlus requests that the Commission grant a waiver so as to permit the revised agreement to become effective on January 1, 2002. PPL EnergyPlus states that it has served a copy of this filing upon PPL Electric.

Comment date: December 26, 2001, in accordance with Standard Paragraph E at the end of this notice.

15. PPL EnergyPlus, LLC

[Docket No. ER02-481-000]

Take notice that on December 5, 2001, PPL EnergyPlus, LLC (PPL EnergyPlus) filed with the Federal Energy Regulatory Commission (Commission) revisions to its First Revised Rate Schedule FERC No. 4, a long-term power sales agreement between PPL EnergyPlus and PPL Electric Utilities Corporation (PPL Electric).

PPL EnergyPlus requests that the Commission grant a waiver so as to permit the revised agreement to become effective on January 1, 2002. PPL EnergyPlus states that it has served a copy of this filing upon PPL Electric.

Comment date: December 26, 2001, in accordance with Standard Paragraph E at the end of this notice.

16. PPL Montana, LLC

[Docket No. ER02-482-000]

Take notice that on December 5, 2001, PPL Montana, LLC (PPL Montana) filed a notice of cancellation of a transaction confirmation between PPL Montana and Enron Power Marketing, Inc. (EPMI).

Notice of the cancellation has been served upon EPMI.

Comment date: December 26, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-31190 Filed 12-18-01; 8:45 am]

BILLING CODE 6717-01-P